DEPARTMENT OF TRANSPORTATION

Federal Aviation Administration

14 CFR Part 71

[Docket No. FAA 2003-16070; Airspace Docket No. 03-ANM-05]

Establishment of Class E Airspace; Hamilton, MT

AGENCY: Federal Aviation Administration (FAA), DOT.

ACTION: Final rule.

SUMMARY: This establishes Class E airspace at Hamilton, MT. New Area Navigation (RNAV) Global Positioning System (GPS) Standard Instrument Approach Procedures (SIAPs) have been developed at Ravalli County Airport, Hamilton, MT, making it necessary to establish this controlled airspace. Additional Class E airspace extending upward from 700 feet or more above the surface of the earth is needed for the safety of Instrument Flight Rules (IFR) aircraft executing these new SIAPs.

EFFECTIVE DATE: 0901 UTC June 10, 2004.

FOR FURTHER INFORMATION CONTACT: Ed Haeseker, Air Traffic Division, Federal Aviation Administration, 1601 Lind Avenue SW., Renton, Washington 98055-4056; telephone (425) 227-2527.

SUPPLEMENTARY INFORMATION:

History

On November 6, 2003, the FAA proposed to amend Federal Aviation Regulations 14 CFR part 71 to establish Class E airspace at Hamilton, MT (68 FR 62762). New RNAV GPS SIAPs at Ravalli County Airport, Hamilton, MT, made this proposal necessary. Additional airspace extending upward from 700 feet or more above the surface of the earth was added for the safety of IFR aircraft executing these new SIAPs.

Interested parties were invited to participated in this rule making proceeding by submitting written comments on the proposal to the FAA. One favorable comment was received. Class E airspace areas extending upward from 700 feet or more above the surface of the earth are published in paragraph 6005 of FAA Order 7400.9L dated September 2, 2003, and effective September 16, 2003, which is incorporated by reference in 14 CFR 71.1. The Class E airspace designations listed in this document will be published subsequently in that Order.

The Rule

This amendment to 14 CFR part 71 establishes Class E airspace at Ravalli County Airport, Hamilton, MT. Class E airspace extending upward from 700 feet or more above the surface of the earth is necessary to provide adequate controlled airspace for the safety of IFR aircraft executing these new RNAV GPS SIAPs.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9L, Airspace Designations and Reporting Points, dated September 2, 2003, and effective September 16, 2003, is amended as follows:

Paragraph 6005 Class E airspace areas extending upward from 700 feet or more above the surface of the earth

* * * * *

ANM UT E5 Hamilton, MT [New]

Ravalli County Airport, MT

(Lat. 46°15′05″ N., long. 114°07′32″ W.)

That airspace extending upward from 700 feet above the surface of the earth within an 8 mile radius of Ravalli County Airport; that airspace extending upward from 1,200 feet above the surface of the earth bounded by a line beginning at lat. 46°42′00″ N., long. 114°11′00″ W.; to lat. 46°42′00″ N., long. 113°52′00″ W.; to lat. 46°19′30″ N., long. 113°52′00″ W.; to lat. 45°51′30″ N., long. 114°01′00″ W.; to lat. 45°51′30″ N., long. 114°11′00″ W.; to lat. 46°03′00″ N., long. 114°19′00″ W.; thence to the beginning; excluding that airspace within Federal Airways.

* * * * *

Issued in Seattle, Washington, on February 20, 2004.
Suzanne Alexander,
Acting Manager, Air Traffic Division, Northwest Mountain Region.

[FR Doc. 04-5174 Filed 3-5-04; 8:45 am]

BILLING CODE 4910-13-M